DEPARTMENT OF THE INTERIOR

Bureau of Land Management

[BLM_NV_FRN_MO4500181594]

Notice of Availability of the Final Environmental Impact Statement for Nevada Gold Mines LLC Robertson Mine Project, Lander County, NV

AGENCY: Bureau of Land Management, Interior.

ACTION: Notice of availability.

SUMMARY: In accordance with the National Environmental Policy Act of 1969 (NEPA), as amended, and the Federal Land Policy and Management Act of 1976, as amended (FLPMA), the Bureau of Land Management (BLM) announces the availability of the Final Environmental Impact Statement (EIS) for Nevada Gold Mines LLC (NGM) Robertson Mine Project.

DATES: The BLM will not issue a decision on the proposal for a minimum of 30 days after the date that the Environmental Protection Agency (EPA) publishes its Notice of Availability (NOA) in the Federal Register. The EPA usually publishes its NOAs on Fridays.

ADDRESSES: The Final EIS and documents pertinent to this proposal are available for review on the BLM National NEPA Register website at https://eplanning.blm.gov/eplanning-ui/project/2023088/510.

FOR FURTHER INFORMATION CONTACT: Jeff Kirkwood, Project Manager, telephone: (775) 635-4164; address: 50 Bastian Road, Battle Mountain, Nevada 89820; email: BLM_NV_BMDO_Robertson@blm.gov. Individuals in the United States who are deaf, deafblind, hard of hearing, or have a speech disability may dial 711 (TTY, TDD, or TeleBraille) to access telecommunication relay services for contacting Mr. Kirkwood. Individuals outside the United States should use the relay services offered within their country to make international calls to the point-of-contact in the United States.

SUPPLEMENTARY INFORMATION:

Purpose and Need for the Proposed Action

The BLM's purpose for the action is to respond to NGM's proposal, as described in its proposed plan of operations, and to analyze the potential environmental effects associated with the proposed action, which is the operator's proposed plan of operations, and alternatives to the proposed action. NEPA mandates that the BLM evaluate the potential effects of the proposed action and develop alternatives. The BLM's need for the action is established by the BLM's responsibilities under Section 302 of FLPMA and the BLM Surface Management Regulations at 43 CFR subpart 3809 to respond to a proposed plan of operations and ensure that operations prevent unnecessary or undue degradation of the public lands.

Proposed Action and Alternatives

Under the proposed plan of operations, NGM would construct, operate, close, and reclaim a new surface mine within the Shoshone Range approximately 58 miles southeast of Battle Mountain, Nevada, and 70 miles southwest of Elko, Nevada. The proposed action would result in changes to the authorized Robertson Exploration Plan boundary (NVN-067688), the Cortez Mine Plan boundary (NVN-67575), and the Pipeline-South Pipeline-Gold Acres Exploration Plan boundary (NVN-067261). If the Robertson Mine Project Plan is approved, these authorized plans would be modified subsequent to that approval.

The boundary of the proposed plan of operations would encompass 5,990 acres. The total disturbance associated with the proposed action, including existing, reclassified, and exploration, would be 4,356 acres, with 4,177 acres on land administered by the BLM and 179 acres on private land. The proposed surface mining activities for the Robertson Mine would include: three open pits (Gold Pan, Porphyry, and Altenburg Hill); haul roads; a waste rock facility; a heap leach facility, including a lined pad, process solution ponds and vaults, and carbon-in-column plant; and ancillary facilities, including three-stage crushing with associated conveyors; ore stockpiles; growth media stockpiles; a gravel borrow source; secondary roads; stormwater controls and diversions; a truck scale; power lines and electrical substations; water production, dewatering, and monitoring wells; water pipelines and loadouts; ready lines; fuel and reagent storage; fueling facilities; laydown yards; an assay laboratory; trailers; buildings; and communications sites. Shared facilities with the nearby Cortez Mine would include but not be limited to the haul road, a potable water well, water pipelines, warehouse and maintenance shops, hazardous waste storage, a petroleum-contaminated soils facility, ore stockpiles, the Pipeline Mill, carbon handling, a refinery, a laboratory, and the Pipeline Area 28 tailings storage facility.

The Partial Backfill Alternative would be the same as described for the proposed action, with the requirement that the Gold Pan Pit would be backfilled to prevent the establishment of a post-mining pit lake.

Under the No Action Alternative, the development of the Robertson Mine Project would not be authorized and NGM would not construct, operate, close, and reclaim a new surface mine. Modifications to the Exploration Plan boundary, the Cortez Mine Plan boundary, and the Pipeline-South Pipeline-Gold Acres Exploration Plan boundary would not occur.

Based on the analyses contained in the EIS for the proposed Robertson Mine Project, and after carefully considering input received from the public and cooperating agencies, the BLM has selected the Partial Backfill Alternative as the BLM's preferred alternative.

Comments on the Draft EIS received from the public and internal BLM review were considered and incorporated as appropriate into the Final EIS. Public comments resulted in the addition of clarifying text but did not significantly change the impact analyses.

(Authority: 40 CFR 1506.6, 40 CFR 1506.10)

Jon D. Sherve,
District Manager, Battle Mountain District.

[FR Doc. 2024-22867 Filed 10-3-24; 8:45 am]

BILLING CODE 4331-21-P